DEPARTMENT OF THE TREASURY

Office of Foreign Assets Control

31 CFR Parts 501, 510, 535, 536, 539, 541, 542, 544, 546, 547, 548, 549, 560, 561, 566, 576, 583, 584, 588, 592, 594, 595, 597, and 598

Inflation Adjustment of Civil Monetary Penalties

AGENCY: Office of Foreign Assets Control, Treasury.

ACTION: Final rule.

SUMMARY: The Department of the Treasury's Office of Foreign Assets Control (OFAC) is issuing this final rule to adjust certain civil monetary penalties (CMPs) for inflation pursuant to the Federal Civil Penalties Inflation Adjustment Act of 1990, as amended by the Debt Collection Improvement Act of 1996 and the Federal Civil Penalties Inflation Adjustment Act Improvements Act of 2015.

DATES: Effective: June 14, 2019.

FOR FURTHER INFORMATION CONTACT: OFAC: Assistant Director for Licensing, 202-622-2480; Assistant Director for Regulatory Affairs, 202-622-4855; Assistant Director for Sanctions Compliance & Evaluation, 202-622-2490; or the Department of the Treasury's Office of the Chief Counsel (Foreign Assets Control), Office of the General Counsel, 202-622-2410.

SUPPLEMENTARY INFORMATION:

Electronic Availability

This document and additional information concerning OFAC are available from OFAC's website (www.treasury.gov/ofac).

Background

Section 4 of the Federal Civil Penalties Inflation Adjustment Act (1990 Pub. L. 101-410, 104 Stat. 890; 28 U.S.C. 2461 note), as amended by the Debt Collection Improvement Act of 1996 (Pub. L. 104-134, 110 Stat. 1321-373) and the Federal Civil Penalties Inflation Adjustment Act Improvements Act of 2015 (Pub. L. 114-74, 129 Stat. 599, 28 U.S.C. 2461 note) (collectively, the FCPIA Act), requires each federal agency with statutory authority to assess civil monetary penalties (CMPs) to adjust CMPs annually for inflation according to a formula described in section 5 of the FCPIA Act. One purpose of the FCPIA Act is to ensure that CMPs continue to maintain their deterrent effect through periodic cost-of-living based adjustments.

OFAC has adjusted its CMPs three times since the Federal Civil Penalties Inflation Adjustment Act Improvements Act went into effect on November 2, 2015: An initial catch-up adjustment on August 1, 2016 (81 FR 43070, July 1, 2016), and annual adjustments on February 10, 2017 (82 FR 10434, February 10, 2017), and March 19, 2018 (83 FR 11876, March 19, 2018).

Method of Calculation

The method of calculating CMP adjustments applied in this final rule is required by the FCPIA Act. Under the FCPIA Act and the Office of Management and Budget guidance required by the FCPIA Act, annual inflation adjustments subsequent to the initial catch-up adjustment are to be based on the percent change between the Consumer Price Index for all Urban Consumers (“CPI-U”) for the October preceding the date of the adjustment and the prior year's October CPI-U. As set forth in Office of Management and Budget Memorandum M-19-04 of December 14, 2018, the adjustment multiplier for 2019 is 1.02522. In order to complete the 2019 annual adjustment, each current CMP is multiplied by the 2019 adjustment multiplier. Under the FCPIA Act, any increase in CMP must be rounded to the nearest multiple of $1.

New Penalty Amounts

OFAC currently is authorized to impose CMPs pursuant to five statutes: The Trading With the Enemy Act (50 U.S.C. 4301-4341, at 4315) (TWEA); the International Emergency Economic Powers Act (50 U.S.C. 1701-1706, at 1705) (IEEPA); the Antiterrorism and Effective Death Penalty Act of 1996 (Pub. L. 104-132, 110 Stat. 1212-1319, at 1250; 18 U.S.C. 2339B) (AEDPA); the Foreign Narcotics Kingpin Designation Act (Pub. L. 106-120, 113 Stat. 1626-1636, at 1632; 21 U.S.C. 1901-1908, at 1906) (FNKDA); and the Clean Diamond Trade Act (Pub. L. 108-19, 117 Stat. 631-637, at 634; 19 U.S.C. 3901-3913, at 3907) (CDTA).

The table below summarizes the existing and new maximum CMP amounts.

Statute | Existing maximum CMP amount | Maximum CMP amount effective June 14, 2019
TWEA | $86,976 | $89,170
IEEPA | 295,141 | 302,584
AEDPA | 77,909 | 79,874
FNKDA | 1,466,485 | 1,503,470
CDTA | 13,333 | 13,669

In addition to updating these maximum CMP amounts, OFAC is also updating a reference to one-half the IEEPA maximum CMP from $147,571 to $151,292.

Public Participation

Because the amended regulations involve a foreign affairs function, the provisions of Executive Order 12866 and the Administrative Procedure Act (5 U.S.C. 553) requiring notice of proposed rulemaking, opportunity for public participation, and delay in effective date, as well as the provisions of Executive Order 13771, are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Parts 501, 510, 535, 536, 539, 541, 542, 544, 546, 547, 548, 549, 560, 561, 566, 576, 583, 584, 588, 592, 594, 595, 597, and 598

Administrative practice and procedure, Banks, Banking, Blocking of assets, Exports, Foreign trade, Licensing, Penalties, Sanctions.

For the reasons set forth in the preamble, the Department of the Treasury's Office of Foreign Assets Control amends 31 CFR chapter V as follows:

PART 501—REPORTING, PROCEDURES AND PENALTIES REGULATIONS

1. The authority citation for part 501 continues to read as follows:

Authority: 8 U.S.C. 1189; 18 U.S.C. 2332d, 2339B; 19 U.S.C. 3901-3913; 21 U.S.C. 1901-1908; 22 U.S.C. 287c; 22 U.S.C. 2370(a), 6009, 6032, 7205; 28 U.S.C. 2461 note; 31 U.S.C. 321(b); 50 U.S.C. 1701-1706; 50 U.S.C. App. 1-44.

Subpart D—Trading With the Enemy Act (TWEA) Penalties

§ 501.701 [Amended]

2. Amend § 501.701 as follows:

a. Remove the note to paragraph (a)(1).

b. In paragraph (a)(3), remove “$86,976” and add in its place “$89,170”.

3. Amend appendix A to part 501 as follows:

a. In paragraph V.B.2.a.i., remove “$147,571” and add in its place “$151,292”, and remove “$295,141” and add in its place “$302,584”.

b. In paragraph V.B.2.a.ii., remove “$295,141” in all three locations where it appears, and add in its place in all three locations “$302,584”.

c. Redesignate the note to paragraph (a) of section V.B.2.a. as paragraph V.B.2.a.v.

d. Revise newly redesignated paragraph V.B.2.a.v.

e. Designate the undesignated paragraph after newly redesignated paragraph V.B.2.a.v., which starts with “The following Matrix represents the base amount of the proposed civil penalty” and contains a table titled “Base Penalty Matrix,” as V.B.2.a.vi.

f. Revise newly redesignated paragraph V.B.2.a.vi.

The revisions read as follows:

Appendix A to Part 501—Economic Sanctions Enforcement Guidelines

* * * * *

V. * * *

B. * * *

2. * * *

a. * * *

v. The applicable statutory maximum civil penalty per violation for each statute enforced by OFAC is as follows: International Emergency Economic Powers Act (IEEPA)—greater of $302,584 or twice the amount of the underlying transaction; Trading with the Enemy Act (TWEA)—$89,170; Foreign Narcotics Kingpin Designation Act (FNKDA)—$1,503,470; Antiterrorism and Effective Death Penalty Act of 1996 (AEDPA)—greater of $79,874 or twice the amount of which a financial institution was required to retain possession or control; and Clean Diamond Trade Act (CDTA)—$13,669. The civil penalty amounts authorized under these statutes are subject to adjustment pursuant to the Federal Civil Penalties Inflation Adjustment Act of 1990 (Pub. L. 101-410, as amended, 28 U.S.C. 2461 note).

vi. The following matrix represents the base amount of the proposed civil penalty for each category of violation:

* * * * *

PART 510—NORTH KOREA SANCTIONS REGULATIONS

4. The authority citation for part 510 continues to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); Pub. L. 114-122, 130 Stat. 93 (22 U.S.C. 9201-9255); Pub. L. 115-44, 131 Stat 886 (22 U.S.C. 9201 note); E.O. 13466, 73 FR 36787, June 27, 2008, 3 CFR, 2008 Comp., p. 195; E.O. 13551, 75 FR 53837, September 1, 2010; E.O. 13570, 76 FR 22291, April 20, 2011; E.O. 13687, 80 FR 819, January 6, 2015; E.O. 13722, 81 FR 14943, March 18, 2016; E.O. 13810, 82 FR 44705, September 25, 2017.

Subpart G—Penalties

§ 510.701 [Amended]

5. Amend § 510.701 as follows:

a. Redesignate paragraph (a)(2) as paragraph (a)(3).

b. Redesignate Note 1 to paragraph (a)(1) as paragraph (a)(2).

c. In newly redesignated paragraph (a)(2), remove “$295,141” and add in its place “$302,584”.

PART 535—IRANIAN ASSETS CONTROL REGULATIONS

6. The authority citation for part 535 continues to read as follows:

Authority: 3 U.S.C. 301; 18 U.S.C. 2332d; 31 U.S.C. 321(b); 50 U.S.C. 1601-1651, 1701-1706; Pub. L. 101-410, 104 Stat. 890 (28 U.S.C. 2461 note); Pub. L. 110-96, 121 Stat. 1011; E.O. 12170, 44 FR 65729, 3 CFR, 1979 Comp., p. 457; E.O. 12205, 45 FR 24099, 3 CFR, 1980 Comp., p. 248; E.O. 12211, 45 FR 26685, 3 CFR, 1980 Comp., p. 253; E.O. 12276, 46 FR 7913, 3 CFR, 1981 Comp., p. 104; E.O. 12279, 46 FR 7919, 3 CFR, 1981 Comp., p. 109; E.O. 12280, 46 FR 7921, 3 CFR, 1981 Comp., p. 110; E.O. 12281, 46 FR 7923, 3 CFR, 1981 Comp., p. 112; E.O. 12282, 46 FR 7925, 3 CFR, 1981 Comp., p. 113; E.O. 12283, 46 FR 7927, 3 CFR, 1981 Comp., p. 114; and E.O. 12294, 46 FR 14111, 3 CFR, 1981 Comp., p. 139.

Subpart G—Penalties

§ 535.701 [Amended]

7. Amend § 535.701 as follows:

a. Redesignate paragraph (a)(2) as paragraph (a)(3).

b. Redesignate the note to paragraph (a)(1) as paragraph (a)(2).

c. In newly redesignated paragraph (a)(2), remove “$295,141” and add in its place “$302,584”.

PART 536—NARCOTICS TRAFFICKING SANCTIONS REGULATIONS

8. The authority citation for part 536 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011; E.O. 12978, 60 FR 54579, 3 CFR, 1995 Comp., p. 415; E.O. 13286, 68 FR 10619, 3 CFR, 2003 Comp., p. 166.

Subpart G—Penalties

§ 536.701 [Amended]

9. Amend § 536.701 as follows:

a. Redesignate paragraph (a)(2) as paragraph (a)(3).

b. Redesignate the note to paragraph (a)(1) as paragraph (a)(2).

c. In newly redesignated paragraph (a)(2), remove “$295,141” and add in its place “$302,584”.

PART 539—WEAPONS OF MASS DESTRUCTION TRADE CONTROL REGULATIONS

10. The authority citation for part 539 continues to read as follows:

Authority: 3 U.S.C. 301; 22 U.S.C. 2751-2799aa-2; 31 U.S.C. 321(b); 50 U.S.C. 1601-1651, 1701-1706; Pub. L. 101-410, 104 Stat. 890 (28 U.S.C. 2461 note); Pub. L. 110-96, 121 Stat. 1011; E.O. 12938, 59 FR 59099, 3 CFR, 1994 Comp., p. 950; E.O. 13094, 63 FR 40803, 3 CFR, 1998 Comp., p. 200.

Subpart G—Penalties

§ 539.701 [Amended]

11. Amend § 539.701 as follows:

a. Redesignate paragraph (a)(2) as paragraph (a)(3).

b. Redesignate the note to paragraph (a)(1) as paragraph (a)(2).

c. In newly redesignated paragraph (a)(2), remove “$295,141” and add in its place “$302,584”.

PART 541—ZIMBABWE SANCTIONS REGULATIONS

12. The authority citation for part 541 continues to read as follows:

Authority: 3. U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13288, 68 FR 11457, 3 CFR, 2003 Comp., p. 186; E.O. 13391, 70 FR 71201, 3 CFR, 2005 Comp., p. 206; E.O. 13469, 73 FR 43841, 3 CFR, 2008 Comp., p. 1025

Subpart G—Penalties

§ 541.701 [Amended]

13. Amend § 541.701 as follows:

a. Redesignate paragraph (a)(2) as paragraph (a)(3).

b. Redesignate the note to paragraph (a)(1) as paragraph (a)(2).

c. In newly redesignated paragraph (a)(2), remove “$295,141” and add in its place “$302,584”.

PART 542—SYRIAN SANCTIONS REGULATIONS

14. The authority citation for part 542 continues to read as follows:

Authority: 3 U.S.C. 301; 31 U.S.C. 321(b); 18 U.S.C. 2332d; 22 U.S.C. 287c; 50 U.S.C. 1601-1651, 1701-1706; Pub. L. 101-410, 104 Stat. 890 (28 U.S.C. 2461 note); Pub. L. 110-96, 121 Stat. 1011 (50 U.S.C. 1701 note); E.O. 13338, 69 FR 26751, 3 CFR, 2004 Comp., p. 168; E.O. 13399, 71 FR 25059, 3 CFR, 2006 Comp., p. 218; E.O. 13460, 73 FR 8991, 3 CFR 2008 Comp., p. 181; E.O. 13572, 76 FR 24787, 3 CFR 2011 Comp., p. 236; E.O. 13573, 76 FR 29143, 3 CFR 2011 Comp., p. 241; E.O. 13582, 76 FR 52209, 3 CFR 2011 Comp., p. 264; E.O. 13606, 77 FR 24571, 3 CFR 2012 Comp., p. 243.

Subpart G—Penalties

§ 542.701 [Amended]

15. Amend § 542.701 as follows:

a. Redesignate paragraph (a)(2) as paragraph (a)(3).

b. Redesignate the note to paragraph (a)(1) as paragraph (a)(2).

c. In newly redesignated paragraph (a)(2), remove “$295,141” and add in its place “$302,584”.

PART 544—WEAPONS OF MASS DESTRUCTION PROLIFERATORS SANCTIONS REGULATIONS

16. The authority citation for part 544 continues to read as follows:

Authority: 3 U.S.C. 301; 31 U.S.C. 321(b); 50 U.S.C. 1601-1651, 1701-1706; Public Law 101-410, 104 Stat. 890 (28 U.S.C. 2461 note); Public Law 110-96, 121 Stat. 1011; E.O. 12938, 59 FR 59099, 3 CFR, 1994 Comp., p. 950; E.O. 13094, 63 FR 40803, 3 CFR, 1998 Comp., p. 200; E.O. 13382, 70 FR 38567, 3 CFR, 2005 Comp., p. 170.

Subpart G—Penalties

§ 544.701 [Amended]

17. Amend § 544.701 as follows:

a. Redesignate paragraph (a)(2) as paragraph (a)(3).

b. Redesignate the note to paragraph (a)(1) as paragraph (a)(2).

c. In newly redesignated paragraph (a)(2), remove “$295,141” and add in its place “$302,584”.

PART 546—DARFUR SANCTIONS REGULATIONS

18. The authority citation for part 546 continues to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); E.O. 13067, 62 FR 59989, 3 CFR, 1997 Comp., p. 230; E.O. 13400, 71 FR 25483, 3 CFR, 2006 Comp., p. 220.

Subpart G—Penalties

§ 546.701 [Amended]

19. Amend § 546.701 as follows:

a. Redesignate paragraph (a)(2) as paragraph (a)(3).

b. Redesignate the note to paragraph (a)(1) as paragraph (a)(2).

c. In newly redesignated paragraph (a)(2), remove “$295,141” and add in its place “$302,584”.

PART 547—DEMOCRATIC REPUBLIC OF THE CONGO SANCTIONS REGULATIONS

20. The authority citation for part 547 continues to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); E.O. 13413, 71 FR 64105, 3 CFR, 2006 Comp., p. 247; E.O. 13671, 79 FR 39949, 3 CFR, 2015 Comp., p. 280.

Subpart G—Penalties

§ 547.701 [Amended]

21. Amend § 547.701 as follows:

a. Redesignate paragraph (a)(2) as paragraph (a)(3).

b. Redesignate Note 1 to paragraph (a)(1) as paragraph (a)(2).

c. In newly redesignated paragraph (a)(2), remove “$295,141” and add in its place “$302,584”.

PART 548—BELARUS SANCTIONS REGULATIONS

22. The authority citation for part 548 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13405, 71 FR 35485; 3 CFR, 2007 Comp., p. 231.

Subpart G—Penalties

§ 548.701 [Amended]

23. Amend § 548.701 as follows:

a. Redesignate paragraph (a)(2) as paragraph (a)(3).

b. Redesignate the note to paragraph (a)(1) as paragraph (a)(2).

c. In newly redesignated paragraph (a)(2), remove “$295,141” and add in its place “$302,584”.

PART 549—LEBANON SANCTIONS REGULATIONS

24. The authority citation for part 549 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13441, 72 FR 43499, 3 CFR, 2008 Comp., p. 232.

Subpart G—Penalties

§ 549.701 [Amended]

25. Amend § 549.701 as follows:

a. Redesignate paragraph (a)(2) as paragraph (a)(3).

b. Redesignate the note to paragraph (a)(1) as paragraph (a)(2).

c. In newly redesignated paragraph (a)(2), remove “$295,141” and add in its place “$302,584”.

PART 560—IRANIAN TRANSACTIONS AND SANCTIONS REGULATIONS

26. The authority citation for part 560 continues to read as follows:

Authority: 3 U.S.C. 301; 18 U.S.C. 2339B, 2332d; 22 U.S.C. 2349aa-9; 22 U.S.C. 7201-7211; 31 U.S.C. 321(b); 50 U.S.C. 1601-1651, 1701-1706; Pub. L. 101-410, 104 Stat. 890 (28 U.S.C. 2461 note); Pub. L. 110-96, 121 Stat. 1011 (50 U.S.C. 1705 note); Pub. L. 111-195, 124 Stat. 1312 (22 U.S.C. 8501-8551); Pub. L. 112-81, 125 Stat. 1298 (22 U.S.C. 8513a); Pub. L. 112-158, 126 Stat. 1214 (22 U.S.C. 8701-8795); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217; E.O. 13599, 77 FR 6659, 3 CFR, 2012 Comp., p. 215; E.O. 13846, 83 FR 38939.

Subpart G—Penalties

§ 560.701 [Amended]

27. Amend § 560.701 as follows:

a. Redesignate paragraph (a)(2) as paragraph (a)(3).

b. Redesignate the note to paragraph (a)(1) as paragraph (a)(2).

c. In newly redesignated paragraph (a)(2), remove “$295,141” and add in its place “$302,584”.

PART 561—IRANIAN FINANCIAL SANCTIONS REGULATIONS

28. The authority citation for part 561 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); Pub. L. 111-195, 124 Stat. 1312 (22 U.S.C. 8501-8551); Pub. L. 112-81, 125 Stat. 1298 (22 U.S.C. 8513a); Pub. L. 112-158, 126 Stat. 1214 (22 U.S.C. 8701-8795); E.O. 12957, 60 FR 14615, 3 CFR, 1995 Comp., p. 332; E.O. 13553, 75 FR 60567, 3 CFR, 2010 Comp., p. 253; E.O. 13599, 77 FR 6659, February 8, 2012; E.O. 13622, 77 FR 45897, August 2, 2012; E.O. 13628, 77 FR 62139, October 12, 2012.

Subpart G—Penalties

§ 561.701 [Amended]

29. Amend § 561.701 as follow:

a. Redesignate the note to paragraph (a) as paragraph (a)(4).

b. In newly redesignated paragraph (a)(4), remove “$295,141” and add in its place “$302,584”.

PART 566—HIZBALLAH FINANCIAL SANCTIONS REGULATIONS

30. The authority citation for part 566 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); Pub. L. 114-102.

Subpart G—Penalties

§ 566.701 [Amended]

31. Amend § 566.701 as follows:

a. Redesignate paragraphs (b) through (e) as paragraphs (c) through (f).

b. Redesignate the note to paragraph (a) as paragraph (b).

c. In newly redesignated paragraph (b), remove “$295,141” and add in its place “$302,584”.

PART 576—IRAQ STABILIZATION AND INSURGENCY SANCTIONS REGULATIONS

32. The authority citation for part 576 continues to read as follows:

Authority: 3 U.S.C. 301; 22 U.S.C. 287c; 31 U.S.C. 321(b); 50 U.S.C. 1601-1651, 1701-1706; Pub. L. 110-96, 121 Stat. 1011; E.O. 13303, 68 FR 31931, 3 CFR, 2003 Comp., p. 227; E.O. 13315, 68 FR 52315, 3 CFR, 2003 Comp., p. 252; E.O. 13350, 69 FR 46055, 3 CFR, 2004 Comp., p. 196; E.O. 13364, 69 FR 70177, 3 CFR, 2004 Comp., p. 236; E.O. 13438, 72 FR 39719, 3 CFR, 2007 Comp., p. 224; E.O. 13668, 79 FR 31019, 3 CFR, 2014 Comp., p. 248.

Subpart G—Penalties

§ 576.701 [Amended]

33. Amend § 576.701 as follows:

a. Redesignate paragraph (a)(2) as paragraph (a)(3).

b. Redesignate the note to paragraph (a)(1) as paragraph (a)(2).

c. In newly redesignated paragraph (a)(2), remove “$295,141” and add in its place “$302,584”.

PART 583—GLOBAL MAGNITSKY SANCTIONS REGULATIONS

34. The authority citation for part 583 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); Pub. L. 114-328, Title XII, Subtitle F, 130 Stat. 2533 (22 U.S.C. 2656 note); E.O. 13818, 82 FR 60839, December 26, 2017.

35. In § 583.701, add paragraph (c) to read as follows:

§ 583.701 Penalties and Findings of Violation.

* * * * *

(c) IEEPA provides for a maximum civil penalty not to exceed the greater of $302,584 or an amount that is twice the amount of the transaction that is the basis of the violation with respect to which the penalty is imposed.

PART 584—MAGNITSKY ACT SANCTIONS REGULATIONS

36. The authority citation for part 584 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); Pub. L. 112-208, 126 Stat. 1502 (22 U.S.C. 5811 note).

§ 584.701 [Amended]

37. Amend § 584.701 as follows:

a. Redesignate paragraph (a)(2) as paragraph (a)(3).

b. Redesignate the note to paragraph (a)(1) as paragraph (a)(2).

c. In newly redesignated paragraph (a)(2), remove “$295,141” and add in its place “$302,584”.

PART 588—WESTERN BALKANS STABILIZATION REGULATIONS

38. The authority citation for part 588 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13219, 66 FR 34777, 3 CFR, 2001 Comp., p. 778; E.O. 13304, 68 FR 32315, 3 CFR, 2004 Comp. p. 229.

Subpart G—Penalties

§ 588.701 [Amended]

39. Amend § 588.701 as follows:

a. Redesignate paragraph (a)(2) as paragraph (a)(3).

b. Redesignate the note to paragraph (a)(1) as paragraph (a)(2).

c. In newly redesignated paragraph (a)(2), remove “$295,141” and add in its place “$302,584”.

PART 592—ROUGH DIAMONDS CONTROL REGULATIONS

40. The authority citation for part 592 continues to read as follows:

Authority: 3 U.S.C. 301; 31 U.S.C. 321(b); Pub. L. 108-19, 117 Stat. 631 (19 U.S.C. 3901-3913); E.O. 13312, 68 FR 45151 3 CFR, 2003 Comp., p. 246.

Subpart F—Penalties

§ 592.601 [Amended]

41. Amend § 592.601 as follows:

a. Redesignate paragraphs (a)(2) and (3) as paragraphs (a)(3) and (4).

b. Redesignate the note to paragraph (a)(1) as paragraph (a)(2).

c. In newly redesignated paragraph (a)(2) remove “$13,333” and add in its place “$13,669”.

PART 594—GLOBAL TERRORISM SANCTIONS REGULATIONS

42. The authority citation for part 594 continues to read as follows:

Authority: 3 U.S.C. 301; 22 U.S.C. 287c; 31 U.S.C. 321(b); 50 U.S.C. 1601-1651, 1701-1706; Pub. L. 101-410, 104 Stat. 890 (28 U.S.C. 2461 note); Pub. L. 110-96, 121 Stat. 1011; Pub. L. 115-44, 131 Stat. 886 (22 U.S.C. 9401 et seq.), E.O. 13224, 66 FR 49079, 3 CFR, 2001 Comp., p. 786; E.O. 13268, 67 FR 44751, 3 CFR, 2002 Comp., p. 240; E.O. 13284, 68 FR 4075, 3 CFR, 2003 Comp., p. 161; E.O. 13372, 70 FR 8499, 3 CFR, 2006 Comp., p. 159.

Subpart G—Penalties

§ 594.701 [Amended]

43. Amend § 594.701 as follows:

a. Redesignate paragraph (a)(2) as paragraph (a)(3).

b. Redesignate the note to paragraph (a)(1) as paragraph (a)(2).

c. In newly redesignated paragraph (a)(2), remove “$295,141” and add in its place “$302,584”.

PART 595—TERRORISM SANCTIONS REGULATIONS

44. The authority citation for part 595 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011; E.O. 12947, 60 FR 5079, 3 CFR, 1995 Comp., p. 319; E.O. 13099, 63 FR 45167, 3 CFR, 1998 Comp., p. 208; E.O. 13372, 70 FR 8499, 3 CFR, 2006 Comp., p. 159.

Subpart G—Penalties

§ 595.701 [Amended]

45. Amend § 595.701 as follows:

a. Redesignate paragraph (a)(2) as paragraph (a)(3).

b. Redesignate the note to paragraph (a)(1) as paragraph (a)(2).

c. In newly redesignated paragraph (a)(2), remove “$295,141” and add in its place “$302,584”.

PART 597—FOREIGN TERRORIST ORGANIZATIONS SANCTIONS REGULATIONS

46. The authority citation for part 597 continues to read as follows:

Authority: 31 U.S.C. 321(b); Pub. L. 101-410, 104 Stat. 890 (28 U.S.C. 2461 note); Pub. L. 104-132, 110 Stat. 1214, 1248-53 (8 U.S.C. 1189, 18 U.S.C. 2339B).

Subpart G—Penalties

§ 597.701 [Amended]

47. Amend § 597.701 as follows:

a. Redesignate the note to paragraph (b) as paragraph (b)(3).

b. In newly redesignated paragraph (b)(3), remove “$77,909” and add in its place “$79,874”.

PART 598—FOREIGN NARCOTICS KINGPIN SANCTIONS REGULATIONS

48. The authority citation for part 598 continues to read as follows:

Authority: 3 U.S.C. 301; 21 U.S.C. 1901-1908; 31 U.S.C. 321(b); Pub. L. 101-410, 104 Stat. 890 (28 U.S.C. 2461 note).

Subpart G—Penalties

§ 598.701 [Amended]

49. Amend § 598.701 as follows:

a. Redesignate the note to paragraph (a)(3) as paragraph (a)(4).

b. In newly redesignated paragraph (a)(4), remove “$1,466,485” and add in its place “$1,503,470”.

Dated: June 7, 2019.
Andrea Gacki,
Director, Office of Foreign Assets Control.

[FR Doc. 2019-12475 Filed 6-13-19; 8:45 am]

BILLING CODE 4810-AL-P